NATIONAL FOUNDATION ON THE ARTS AND THE HUMANITIES

National Endowment for the Arts; Fellowships Advisory Panel

Pursuant to section 10(a)(2) of the Federal Advisory Committee Act (Pub. L. 92-463), as amended, notice is hereby given that a meeting of the Fellowships Advisory Panel, Folk & Traditional Arts section (National Heritage Fellowships category) to the National Council on the Arts will be held on January 27-30, 2004 in Room 716 at the Nancy Hanks Center, 1100 Pennsylvania Avenue, NW., Washington, DC 20506. The panel will meet from 9 a.m. to 6:30 p.m. on January 27th-29th, and from 9 a.m. to 3 p.m. on January 30th.

This meeting is for the purpose of Panel review, discussion, evaluation, and recommendation on nominations for recognition under the National Foundation on the Arts and the Humanities Act of 1965, as amended, including information given in confidence to the agency by nominators and nominees. In accordance with the determination of the Chairman of April 30, 2003, these sessions will be closed to the public pursuant to (c)(6) of title 5, United States Code, section 552b.

Further information with reference to this meeting can be obtained from Ms. Kathy Plowitz-Worden, Office of Guidelines & Panel Operations, National Endowment for the Arts, Washington, DC 20506, or call 202/682-5691.

Dated: December 11, 2003.
Kathy Plowitz-Worden,
Panel Coordinator, Panel Operations, National Endowment for the Arts.

[FR Doc. 03-31108 Filed 12-16-03; 8:45 am]

BILLING CODE 7537-01-P